DEPARTMENT OF THE TREASURY

Internal Revenue Service

26 CFR Part 300

[REG-100719-21]

RIN 1545-BQ26

User Fees Relating to Enrolled Actuaries; Hearing Cancellation

AGENCY: Internal Revenue Service (IRS), Treasury.

ACTION: Cancellation of a notice of public hearing on a proposed rulemaking.

SUMMARY: This document cancels a public hearing on proposed regulations increasing both the enrollment and renewal of enrollment user fees for enrolled actuaries from $250.00 to $680.00.

DATES: The public hearing scheduled for January 9, 2023, at 10 a.m. EST is cancelled.

FOR FURTHER INFORMATION CONTACT: Vivian Hayes of the Publications and Regulations Branch, Legal Processing Division, Associate Chief Counsel (Procedure and Administration) at (202) 317-5306 (not a toll-free number).

SUPPLEMENTARY INFORMATION: A correction to a notice of proposed rulemaking and a notice of public hearing that appeared in the Federal Register on November 9, 2022 (87 FR 67611) announced that a public hearing being held by teleconference was scheduled for January 9, 2023, at 10 a.m. EST. The subject of the public hearing is under 26 CFR part 300.

The public comment period for these regulations expired on December 19, 2022. The notice of proposed rulemaking and notice of public hearing instructed those interested in testifying at the public hearing to submit a request to testify and an outline of the topics to be addressed. We did not receive a request to testify at the Public Hearing. Therefore, the public hearing scheduled for January 9, 2023, at 10 a.m. EST is cancelled.

Oluwafunmilayo A. Taylor,
Chief, Publications and Regulations Branch, Legal Processing Division, Associate Chief Counsel, (Procedure and Administration).

[FR Doc. 2022-28302 Filed 12-28-22; 8:45 am]

BILLING CODE 4830-01-P